DEPARTMENT OF COMMERCE

National Oceanic and Atmospheric Administration

50 CFR Part 648

[Docket No. 040112010-4114-02; I.D. 122203A]

RIN 0648-AN17

Magnuson-Stevens Fishery Conservation and Management Act Provisions; Fisheries of the Northeastern United States; Northeast (NE) Multispecies Fishery; Amendment 13; Correction

AGENCY: National Marine Fisheries Service (NMFS), National Oceanic and Atmospheric Administration (NOAA), Commerce.

ACTION: Final rule; correction.

SUMMARY: This document contains a correction to the final rule implementing Amendment 13 to the NE Multispecies Fishery Management Plan (FMP) published on April 27, 2004. Because publication of the Amendment 13 final rule followed publication of the Electronic Dealer Reporting (EDR) final rule, § 648.7 of Amendment 13 unintentionally superceded § 648.7 of the EDR final rule, creating confusion as to which set of regulatory changes were, in fact, being implemented. Therefore, this document corrects the error contained in the Amendment 13 final rule as it relates to § 648.7.

DATES: Effective May 1, 2004.

FOR FURTHER INFORMATION CONTACT: Thomas Warren, Fishery Policy Analyst, 978-281-9347, fax 978-281-9135; email thomas.warren@noaa.gov. Michael Pentony, Senior Fishery Policy Analyst, 978-281-9283, fax 978-281-9135, email michael.pentony@noaa.gov.

SUPPLEMENTARY INFORMATION: NMFS recently published two final rules, EDR (69 FR 13482, March 23, 2004) and Amendment 13 (69 FR 22906, April 27, 2004), both of which implement revised regulatory text for § 648.7. Amendment 13 was under development by the New England Fishery Management Council, in cooperation with NMFS, for several years. It was originally anticipated that publication of the Amendment 13 final rule would precede publication of the implementing regulations for the EDR final rule. The preamble to the Amendment 13 final rule clearly indicates that NMFS would be issuing electronic dealer reporting requirements in a separate, future rulemaking (i.e., the EDR Rule). The Amendment 13 revision to § 648.7 was intended initially only as a place-holder until such time that the EDR final rule was implemented. However, in order to ensure that the EDR final rule became effective by May 1, 2004, and to accommodate the 30-day delay in effectiveness pursuant to the Administrative Procedure Act, NMFS published the EDR final rule first, on March 23, 2004. NMFS inadvertently failed to remove the place-holder language in the Amendment 13 final rule to reflect the new requirements contained in the EDR final rule at § 648.7. Because of this oversight, and unless corrected, the Amendment 13 implementing regulations will supercede the EDR § 648.7 revised text. Therefore, NMFS corrects the final rule implementing Amendment 13 by removing all reference to § 648.7. This section will be implemented as published in the EDR final rule that published on March 23, 2004 (69 FR 13482).

Correction

PART 648—[CORRECTED]

The publication on April 27, 2004, at 69 FR 22906, FR Doc. 04-8884 is corrected as follows:

§ 648.7 [Corrected]

On page 22946, in the second column, first complete paragraph, remove the entire instruction 4, including the amendatory text in instruction 4 and the corresponding regulatory text, and renumber the remaining instructions accordingly.

Dated: April 27, 2004.
Rebecca Lent,
Deputy Assistant Administrator for Regulatory Programs, National Marine Fisheries Service.

[FR Doc. 04-9845 Filed 4-27-04; 2:54 pm]

BILLING CODE 3510-22-S